LEGAL SERVICES CORPORATION

Sunshine Act Meetings

ACTION: Notice.

DATE AND TIME: The Legal Services Corporation's Board of Directors will meet telephonically on May 21, 2013. The meeting will commence at 11:00 a.m., EDT, and will continue until the conclusion of the Board's agenda.

LOCATION: F. William McCalpin Conference Center, Legal Services Corporation Headquarters, 3333 K Street NW., Washington, DC 20007.

PUBLIC OBSERVATION: Members of the public who are unable to attend in person but wish to listen to the public proceedings may do so by following the telephone call-in directions provided below.

CALL-IN DIRECTIONS FOR OPEN SESSIONS:

• Call toll-free number: 1-866-451-4981;

• When prompted, enter the following numeric pass code: 5907707348

• When connected to the call, please immediately “MUTE” your telephone.

Members of the public are asked to keep their telephones muted to eliminate background noises. To avoid disrupting the meeting, please refrain from placing the call on hold if doing so will trigger recorded music or other sound. From time to time, the presiding Chair may solicit comments from the public.

STATUS OF MEETING: Open, except that, upon a vote of the Board of Directors, the meeting may be closed to discuss a candidate for the position of Vice President of Legal Affairs, General Counsel, and Corporate Secretary. A verbatim written transcript will be made of the closed session portion of the meeting. The transcript of any portion of the closed session falling within the relevant provisions of the Government in the Sunshine Act, 5 U.S.C. 552b(c)(6) will not be available for public inspection. A copy of the General Counsel's Certification that, in his opinion, the closing is authorized by law will be available upon request.

MATTERS TO BE CONSIDERED:

Open

1. Approval of agenda

2. Consider and act on the Board of Directors' transmittal to accompany the Inspector General's Semiannual Report to Congress for the period of October 1, 2012 through March 30, 2013

3. Consider and act on a resolution thanking Amy Reagan for her service on the Pro Bono Task Force (Resolution 2013-XXX)

4. Consider and act on whether to authorize an executive session of the Board

Closed

5. Discussion of candidate for the position of Vice President of Legal Affairs, General Counsel, and Corporate Secretary

Open

6. Consider and act on a resolution on the appointment of a Vice President for Legal Affairs, General Counsel, and Corporate Secretary (Resolution 2013-XXX)

7. Public comment

8. Consider and act on other business

9. Consider and act on adjournment of meeting

CONTACT PERSON FOR INFORMATION: Katherine Ward, Executive Assistant to the Vice President & General Counsel, at (202) 295-1500. Questions may be sent by electronic mail to FR_NOTICE_QUESTIONS@lsc.gov.

ACCESSIBILITY: LSC complies with the Americans with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: May 13, 2013.
Atitaya C. Rok,
Staff Attorney.

[FR Doc. 2013-11719 Filed 5-14-13; 11:15 am]

BILLING CODE 7050-01-P